DEPARTMENT OF THE INTERIOR

Fish and Wildlife Service

[FWS-R9-IA-2009-N283]

[96300-1671-0000-P5]

Receipt of Applications for Permit

AGENCY: Fish and Wildlife Service, Interior.

ACTION: Notice of receipt of applications for permit.

SUMMARY: We, the U.S. Fish and Wildlife Service, invite the public to comment on the following applications for permits to conduct certain activities with endangered species. The Endangered Species Act requires that we invite public comment on these permit applications.

DATES: Written data, comments or requests must be received by February 4, 2010.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION:

Endangered Species

The public is invited to comment on the following applications for a permit to conduct certain activities with endangered species. This notice is provided pursuant to Section 10(c) of the Endangered Species Act of 1973, as amended (16 U.S.C. 1531 et seq.). Submit your written data, comments, or requests for copies of the complete applications to the address shown in ADDRESSES.

Applicant: Chelonian Conservation Center, Ojai, CA, PRT-217124

The applicant requests a permit to import up to 10 angulated tortoises (Astrochelys yniphora) which were previously illegally removed from the wild in Madagascar. The import would be for the purpose of enhancement of the survival of the species. This notification covers activities to be conducted by the applicant over a 1-year period.

Applicant: Zoological Society of San Diego, CA, PRT-223447

The applicant requests a permit to export biological samples from Western lowland gorilla (Gorilla gorilla) to Cambridge University, Department Of Veterinary Medicine, Cambridge, United Kingdom, for the purpose of enhancement of the species through scientific research. This notification covers activities to be conducted by the applicant over a 1-year period.

Applicant: Metro Richmond Zoo, Moseley, VA, PRT-228022

The applicant requests a permit to import two captive-bred female cheetahs (Acinonyx jubatus) from the DeWildt Center, South Africa, for the purpose of enhancement of the survival of the species.

Applicant: Wildlife Conservation Society, Bronx Zoo, New York, NY, PRT-231585

The applicant requests a permit to export up to 1000 captive hatched Kihansi spray toads (Nectophrynoides asperginis) to their range state at the University of Dar Es Salaam, Tanzania, for the purpose of enhancement of the survival of the species. This notification covers activities to be conducted by the applicant over a 5-year period.

Applicant: Jarrell W. Martin, Jacksonville, FL, PRT-235302

The applicant requests a permit to import the sport-hunted trophy of one male bontebok (Damaliscus pygargus pygargus) culled from a captive herd maintained under the management program of the Republic of South Africa, for the purpose of enhancement of the survival of the species.

Dated: December 18, 2009
Brenda Tapia,
Program Analyst, Branch of Permits, Division of Management Authority.

[FR Doc. E9-31270 Filed 1-4-10; 8:45 am

]BILLING CODE 4310-55-S